DEPARTMENT OF TRANSPORTATION

Federal Aviation Administration

14 CFR Part 39

[Docket No. FAA-2018-0180; Project Identifier 2017-CE-043-AD; Amendment 39-21146; AD 2020-13-01]

RIN 2120-AA64

Airworthiness Directives; Daher Aircraft Design, LLC (Type Certificate Previously Held by Quest Aircraft Design, LLC), Airplanes

AGENCY: Federal Aviation Administration (FAA), DOT.

ACTION: Final rule; correction.

SUMMARY: The FAA is correcting an airworthiness directive (AD) that published in the Federal Register. The AD applies to all Daher Aircraft Design, LLC (type certificate previously held by Quest Aircraft Design, LLC), Model KODIAK 100 airplanes. As published, the type certificate (TC) holder in the regulatory heading that identifies the AD is incorrect. This document corrects that error. In all other respects, the original document remains the same; however, for clarity, the FAA is publishing the entire rule in the Federal Register.

DATES: This correction is effective August 17, 2020. The effective date of AD 2020-13-01 remains August 17, 2020.

The Director of the Federal Register approved the incorporation by reference of certain publications listed in this AD as of August 17, 2020 (85 FR 41906, July 13, 2020).

ADDRESSES: For service information identified in this final rule, contact Kodiak Aircraft Company, Inc., 1200 Turbine Drive, Sandpoint, Idaho 83864; phone: (208) 263-1111 or 1 (866) 263-1112; email: KodiakCare@daher.com; internet: http://Kodiak.aero/support. You may view this referenced service information at the FAA, Airworthiness Products Section, Operational Safety Branch, 901 Locust, Kansas City, Missouri 64106. For information on the availability of this material at the FAA, call 816-329-4148. It is also available on the internet at https://www.regulations.gov by searching for and locating Docket No. FAA-2018-0180.

Examining the AD Docket

You may examine the AD docket on the internet at https://www.regulations.gov; or in person at the Docket Management Facility between 9 a.m. and 5 p.m., Monday through Friday, except Federal holidays. The AD docket contains this AD, any comments received, and other information. The address for Docket Operations is Docket Management Facility, U.S. Department of Transportation, Docket Operations, M-30, West Building Ground Floor, Room W12-140, 1200 New Jersey Avenue SE, Washington, DC 20590.

FOR FURTHER INFORMATION CONTACT: Wade Sullivan, Aerospace Engineer, Airframe Section, FAA, Seattle ACO Branch, 2200 South 216th St., Des Moines, WA 98198; phone and fax: 206-231-3530; email: Wade.Sullivan@faa.gov.

SUPPLEMENTARY INFORMATION: As published, AD 2020-13-01, Amendment 39-21146 (85 FR 41906, July 13, 2020), applies to all Daher Aircraft Design, LLC (type certificate previously held by Quest Aircraft Design, LLC), Model KODIAK 100 airplanes. AD 2020-13-01 requires a one-time inspection to determine if an affected nose landing gear (NLG) fork is installed, repetitive inspections of the affected NLG fork for cracks, repetitive inspections of the shimmy damper bracket for looseness and of the shimmy damper system for damaged components if an affected NLG fork is installed, and rework/replacement of parts as necessary.

Need for the Correction

As published, the TC holder in the regulatory heading that identifies the AD is incorrect. The heading incorrectly identified the TC holder as “Quest Aircraft Design, LLC.” The correct TC holder is Daher Aircraft Design, LLC (Type Certificate previously held by Quest Aircraft Design, LLC).

Although no other part of the preamble or regulatory information has been corrected, for clarity, the FAA is publishing the entire rule in the Federal Register.

The effective date of this AD remains August 17, 2020.

Related Service Information Under 1 CFR Part 51

The FAA reviewed Quest Aircraft Field Service Instruction FSI-147, Revision 00, Release Date January 29, 2018, which provides instructions for inspection and, if necessary, replacement of the NLG fork. The FAA reviewed pages 32_110 and 32_111, section 3252, Shimmy Damper, Chapter 32, Landing Gear, of Quest Aircraft Company Kodiak 100 Maintenance Manual, Revision No. 21, dated February 15, 2017, which contains procedures for inspecting the shimmy damper system. The FAA also reviewed Quest Aircraft Field Service Instruction FSI-146, Revision 00, Release Date April 18, 2017, which provides instructions for modifying the shimmy damper attach bracket. This service information is reasonably available because the interested parties have access to it through their normal course of business or by the means identified in the ADDRESSES section.

Good Cause for Adoption Without Prior Notice

Section 553(b)(3)(B) of the Administrative Procedure Act (APA) (5 U.S.C. 551 et seq.) authorizes agencies to dispense with notice and comment procedures for rules when the agency for “good cause” finds that those procedures are “impracticable, unnecessary, or contrary to the public interest.” Section 553(d)(3) of the APA requires that agencies publish a rule not less than 30 days before its effective date, except as otherwise provided by the agency for good cause found and published with the rule.

Since this action only corrects the TC holder in a regulatory heading, the FAA finds that notice and public comment under 5 U.S.C. 553(b) is unnecessary. For the same reason, the FAA finds that good cause exists under 5 U.S.C. 553(d) for making this rule effective in less than 30 days.

List of Subjects in 14 CFR Part 39

Air transportation, Aircraft, Aviation safety, Incorporation by reference, Safety.

Adoption of the Correction

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Corrected]

2. The FAA amends § 39.13 by adding the following new airworthiness directive (AD):

2020-13-01 Daher Aircraft Design, LLC (Type Certificate previously held by Quest Aircraft Design, LLC): Amendment 39-21146; Docket No. FAA-2018-0180; Project Identifier 2017-CE-043-AD.

(a) Effective Date

This airworthiness directive (AD) is effective August 17, 2020.

(b) Affected ADs

None.

(c) Applicability

This AD applies to Daher Aircraft Design, LLC (type certificate previously held by Quest Aircraft Design, LLC), Model KODIAK 100 airplanes, all serial numbers, certificated in any category.

(d) Subject

Joint Aircraft System Component (JASC)/Air Transport Association (ATA) of America Code 32, Landing Gear.

(e) Unsafe Condition

This AD was prompted by reports from the manufacturer of fatigue cracks on the nose landing gear (NLG) fork. The FAA is issuing this AD to detect and prevent fatigue cracking of the NLG fork. The unsafe condition, if not corrected, could result in separation of the NLG fork with consequent reduced control on landing. If the NLG fork separates on an unimproved surface, the risk of the NLG digging in and the airplane overturning on the ground increases.

(f) Compliance

Comply with this AD within the compliance times specified, unless already done.

(g) Inspection for Type of NLG Fork

Within 25 hours time-in-service (TIS) after August 17, 2020 (the effective date of this AD), inspect the airplane to determine if an NLG fork part number (P/N) 100-410-7001 (type A) or an NLG fork P/N 100-410-7013 (type B) is installed. If you determine that an NLG fork P/N 100-410-7013 (type B) is installed during the inspection, no further action is required by this AD. If a review of the maintenance records can identify the P/N NLG fork that is installed, you may use a maintenance records review in lieu of inspecting the airplane to determine if an NLG fork P/N 100-410-7001 (type A) or an NLG fork P/N 100-410-7013 (type B) is installed.

(h) Inspection of the NLG Fork for Cracks

(1) If you determine that an NLG fork P/N 100-410-7001 (type A) is installed during the inspection required by paragraph (g) of this AD, within 25 hours TIS after August 17, 2020 (the effective date of this AD) and thereafter at intervals not to exceed 200 hours TIS, do a fluorescent penetrant, dye penetrant, or open-hole eddy current inspection of the NLG fork for cracks by following section 5. Instructions in Quest Aircraft Field Service Instruction FSI-147, Revision 00, Release Date January 29, 2018.

(2) If you find any cracks of the NLG fork during any inspection required by paragraph (h)(1) of this AD, before further flight, replace the NLG fork with an NLG fork P/N 100-410-7013 (type B). Replacement of the NLG fork with an NLG fork P/N 100-410-7013 (type B) terminates the repetitive inspections required by paragraphs (h)(1) and (i)(1) of this AD.

(i) Inspection of the Shimmy Damper Bracket

(1) If you have not replaced an NLG fork P/N 100-410-7001 (type A) per the initial inspection and replacement requirements in paragraph (h) of this AD, then within 25 hours TIS after August 17, 2020 (the effective date of this AD) and thereafter at intervals not to exceed 200 hours TIS (until the NLG fork is replaced with a P/N 100-410-7013 (type B) fork), inspect the shimmy damper bracket for looseness, and inspect the shimmy damper system for damaged (loose, leaking, corroded, or worn) components, by following pages 32_110 and 32_111, section 3252, Shimmy Damper, found in Chapter 32, Landing Gear, of Quest Aircraft Company Kodiak 100 Maintenance Manual, Revision No. 21, dated February 15, 2017.

(2) If a loose shimmy damper bracket is found during any inspection required by paragraph (i)(1) of this AD, rework the shimmy damper bracket with interference-fit bolts by following Quest Aircraft Field Service Instruction FSI-146, Revision 00, Release Date April 18, 2017. Reworking the shimmy damper bracket with the interference-fit bolts terminates the repetitive inspections required by paragraph (i)(1) of this AD.

(3) If any other damaged components are found in the shimmy damper system during any inspection required by paragraph (i)(1) of this AD, before further flight, replace the damaged components.

(j) Optional Terminating Action

In lieu of the NLG fork and shimmy damper bracket inspections required by paragraphs (h)(1) and (i)(1) of this AD, you may replace the NLG fork P/N 100-410-7001 (type A) with an NLG fork P/N 100-410-7013 (type B). This replacement terminates the inspection requirements of this AD, and no further actions are required.

(k) Restriction of NLG Fork P/N 100-410-7001 (Type A) Installation

Once an NLG fork P/N 100-410-7013 (type B) is installed on an airplane, do not install an NLG fork P/N 100-410-7001 (type A). If an NLG fork P/N 100-410-7013 (type B) is removed from the airplane for any reason (for example, to install floats), you must reinstall an NLG fork P/N 100-410-7013 (type B) when operating with wheels.

(l) Alternative Methods of Compliance (AMOCs)

(1) The Manager, Seattle ACO Branch, FAA, has the authority to approve AMOCs for this AD, if requested using the procedures found in 14 CFR 39.19. In accordance with 14 CFR 39.19, send your request to your principal inspector or local Flight Standards District Office, as appropriate. If sending information directly to the manager of the certification office, send it to the attention of the person identified in paragraph (m) of this AD. Information may also be emailed to: 9-ANM-Seattle-ACO-AMOC-Requests@faa.gov.

(2) Before using any approved AMOC, notify your appropriate principal inspector, or lacking a principal inspector, the manager of the local flight standards district office/certificate holding district office.

(m) Related Information

For more information about this AD, contact Wade Sullivan, Aerospace Engineer, Aerospace Engineer, Airframe Section, FAA, Seattle ACO Branch, 2200 South 216th St., Des Moines, WA 98198; phone and fax: 206-231-3530; email: Wade.Sullivan@faa.gov.

(n) Material Incorporated by Reference

(1) The Director of the Federal Register approved the incorporation by reference of the service information listed in this paragraph under 5 U.S.C. 552(a) and 1 CFR part 51.

(2) You must use this service information as applicable to do the actions required by this AD, unless the AD specifies otherwise.

(3) The following service information was approved for IBR on August 17, 2020 (85 FR 41906, July 13, 2020).

(i) Pages 32_110 and 32_111, section 3252, Shimmy Damper, Chapter 32, Landing Gear, of Quest Aircraft Company Kodiak 100 Maintenance Manual, Revision No. 21, dated February 15, 2017.

(ii) Quest Aircraft Field Service Instruction FSI-146, Revision 00, Release Date April 18, 2017.

Note 1 to paragraph (n)(2)(ii) of this AD: The Release Date is a pen-and-ink addition that appears only on the Revision Notice transmitted with FSI-146.

(iii) Quest Aircraft Field Service Instruction FSI-147, Revision 00, Release Date January 29, 2018.

Note 2 to paragraph (n)(2)(iii) of this AD: The Release Date is a pen-and-ink addition that appears only on the Revision Notice transmitted with FSI-147.

(4) For service information identified in this AD, contact Kodiak Aircraft Company, Inc., 1200 Turbine Drive, Sandpoint, Idaho 83864; phone: (208) 263-1111 or 1 (866) 263-1112; email: KodiakCare@daher.com; internet: http://Kodiak.aero/support.

(5) You may view this service information at the FAA, Airworthiness Products Section, Operational Safety Branch, 901 Locust, Kansas City, Missouri 64106. For information on the availability of this material at the FAA, call 816-329-4148.

(6) You may view this service information that is incorporated by reference at the National Archives and Records Administration (NARA). For information on the availability of this material at NARA, email fedreg.legal@nara.gov, or go to https://www.archives.gov/federal-register/cfr/ibrlocations.html.

Issued on August 3, 2020.
Ross Landes,
Deputy Director for Regulatory Operations, Compliance & Airworthiness Division, Aircraft Certification Service.

[FR Doc. 2020-17273 Filed 8-7-20; 8:45 am]

BILLING CODE 4910-13-P